NATIONAL FOUNDATION ON THE ARTS AND THE HUMANITIES

Meetings of Humanities Panel

AGENCY: National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: December 1, 2009.

Time: 8:30 a.m. to 5 p.m.

Room: 415.

Program: This meeting will review applications for Research and Development in Preservation and Access Humanities Collection and Reference Resources, submitted to the Division of Preservation and Access at the July 15, 2009 deadline.

2. Date: December 1, 2009.

Time: 8:30 a.m. to 5 p.m.

Room: 315.

Program: This meeting will review applications for Enduring Questions: Pilot Course Grants, submitted to the Division of Education Programs at the September 15, 2009 deadline.

3. Date: December 1, 2009.

Time: 8:30 a.m. to 5 p.m.

Room: Library of Congress, Jefferson Building, African and Middle Eastern Conference Room, LJ-220, 101 Independence Avenue, SE., Washington, DC 20540.

Program: This meeting will review applications for Kluge Fellowships, submitted to the Division of Research Programs at the July 15, 2009 deadline.

4. Date: December 2, 2009.

Time: 9 a.m. to 5 p.m.

Room: 402.

Program: This meeting will review applications for Digital Humanities Start Up Grants, submitted to the Office of Digital Humanities at the October 6, 2009 deadline.

5. Date: December 3, 2009.

Time: 8:30 a.m. to 5 p.m.

Room: 415.

Program: This meeting will review applications for American Studies I in Preservation and Access Humanities Collection and Reference Resources, submitted to the Division of Preservation and Access at the July 15, 2009 deadline.

6. Date: December 3, 2009.

Time: 8:30 a.m. to 5 p.m.

Room: Library of Congress, Jefferson Building, African and Middle Eastern Conference Room, LJ-220, 101 Independence Avenue, SE., Washington, DC 20540.

Program: This meeting will review applications for Kluge Fellowships, submitted to the Division of Research Programs at the July 15, 2009 deadline.

7. Date: December 7, 2009.

Time: 9 a.m. to 5 p.m.

Room: Room 402.

Program: This meeting will review applications for Digital Start Up Grants, submitted to the Office of Digital Humanities at the October 6, 2009 deadline.

8. Date: December 8, 2009.

Time: 9 a.m. to 5 p.m.

Room: Room 402.

Program: This meeting will review applications for Digital Start Up Grants, submitted to the Office of Digital Humanities at the October 6, 2009 deadline.

9. Date: December 8, 2009.

Time: 8:30 a.m. to 5 p.m.

Room: 415.

Program: This meeting will review applications for Art and Architecture in Preservation and Access Humanities Collection and Reference Resources, submitted to the Division of Preservation and Access at the July 15, 2009 deadline.

10. Date: December 9, 2009.

Time: 9 a.m. to 5 p.m.

Room: Room 402.

Program: This meeting will review applications for Digital Start Up Grants, submitted to the Office of Digital Humanities at the October 6, 2009 deadline.

11. Date: December 10, 2009.

Time: 9 a.m. to 5 p.m.

Room: Room 402.

Program: This meeting will review applications for Digital Start Up Grants, submitted to the Office of Digital Humanities at the October 6, 2009 deadline.

12. Date: December 10, 2009.

Time: 8:30 a.m. to 5 p.m.

Room: 415.

Program: This meeting will review applications for American Studies II in Preservation and Access Humanities Collection and Reference Resources, submitted to the Division of Preservation and Access at the July 15, 2009 deadline.

13. Date: December 16, 2009.

Time: 8:30 a.m. to 5 p.m.

Room: 315.

Program: This meeting will review applications for Fellowship Programs at Independent Research Institutions, submitted to the Division of Research Programs at the August 20, 2009 deadline.

Michael P. McDonald,
Advisory Committee, Management Officer.

[FR Doc. E9-27021 Filed 11-9-09; 8:45 am]

BILLING CODE 7536-01-P